DEPARTMENT OF COMMERCE

National Oceanic and Atmospheric Administration

50 CFR Part 660

[Docket No. 0330612150-3214-02; 102003A]

Fisheries off West Coast States and in the Western Pacific; Coastal Pelagic Species Fisheries; Closure of the Fishery for Pacific Sardine North of Pt. Arena, California

AGENCY: National Marine Fisheries Service (NMFS), National Oceanic and Atmospheric Administration (NOAA), Commerce.

ACTION: Closure of the fishery for Pacific sardine north of Pt. Arena, California.

SUMMARY: NMFS announces the closure of the fishery for Pacific sardine in the exclusive economic zone off the Pacific Coast north of Pt. Arena, California (39° 00′ N. lat.) at 12:01 a.m. local time (l.t.) on October 17, 2003. The purpose of this action is to comply with the allocation procedures mandated by the Coastal Pelagic Species Fishery Management Plan (FMP).

DATES: Effective 12:01 a.m. l.t., October 24, 2003 through December 31, 2003.

ADDRESSES: The data that was used as the basis for this action is available for public inspection at the Office of the Acting Regional Administrator, Rodney R. McInnis, Southwest Region, NMFS, 501 W. Ocean Boulevard, Suite 4200, Long Beach, CA 90802-4213.

FOR FURTHER INFORMATION CONTACT: Svein Fougner, Southwest Region, NMFS, (562) 980-4040.

SUPPLEMENTARY INFORMATION: On September 9,2003 (68 FR 53053), NMFS announced the reallocation of the remaining Pacific sardine harvest guideline in the exclusive economic zone off the Pacific Coast. An estimated 59,508 metric tons (mt) of the 110,908 mt harvest guideline was expected to remain unharvested on September 1, 2003. In accordance with the allocation procedures contained in the FMP, 80 percent of the 59,508 mt was allocated to Subarea B south of Pt. Arena, CA (47,606 mt) and 20 percent was allocated to Subarea A north of Pt. Arena, CA (11,902 mt). The allocation to Subarea A of 11,902 mt was reached on October 17, 2003. According to the allocation procedures in the FMP, the fishery may reopen on December 1, 2003, if any portion of the Subarea B allocation is unharvested at that time.

For the reasons stated here and in accordance with the FMP and its implementing regulations at 50 CFR 660.508, the fishery for Pacific sardine north of Pt. Arena, CA was closed at 12:01 a.m. October 17, 2003. If any of the sardine allocation to Subarea B south of Pt. Arena remains unharvested on December 1, 2003, it will be available to all fisheries off the Pacific Coast until the end of the fishing season on December 31, 2003.

Classification

The Assistant Administrator for Fisheries (AA), NMFS finds good cause to waive the requirement to provide prior notice and opportunity for comment on this action under 5 U.S.C. 553(b)(B), because providing prior notice and opportunity would be impracticable. It would be impracticable because this closure is necessary to comply with the allocation procedures mandated by the FMP and its implementing regulations. For these reasons, the AA finds that good cause exists to waive the 30-day delay in effectiveness requirement of 5 U.S.C. 553(d)(3).

This action is required by 50 CFR 660.509 and is exempt from review under Executive Order 12866.

Authority: 16 U.S.C. 1801 et seq.

Dated: October 23, 2003.
Bruce C. Morehead,
Acting Director, Office of Sustainable Fisheries, National Marine Fisheries Service.

[FR Doc. 03-27174 Filed 10-23-03; 3:49 pm]

BILLING CODE 3510-22-S